DEPARTMENT OF HOMELAND SECURITY

Transportation Security Administration

Revision of Agency Information Collection Activity Under OMB Review: TSA Pre✓® Application Program

AGENCY: Transportation Security Administration, DHS.

ACTION: 30-day Notice.

SUMMARY: This notice announces that the Transportation Security Administration (TSA) has forwarded the Information Collection Request (ICR), Office of Management and Budget (OMB) control number 1652-0059, abstracted below to the Office of Management and Budget (OMB) for review and approval of a revision of the currently approved collection under the Paperwork Reduction Act (PRA). The ICR describes the nature of the information collection and its expected burden. TSA published a Federal Register notice, with a 60-day comment period soliciting comments, of the following collection of information on January 5, 2015, 80 FR 515. The collection involves the submission of biographic and biometric information by individuals seeking to enroll in the TSA Pre✓®Application Program, as well as an optional customer satisfaction survey.

DATES: Send your comments by June 22, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Pre✓® Application Program.

Type of Request: Revision of currently approved collection.

OMB Control Number: 1652-0059.

Form(s): NA.

Affected Public: Air Travelers.

Abstract: The Transportation Security Administration (TSA) implemented the TSA Pre✓® Application Program pursuant to its authority under sec. 109(a)(3) of the Aviation and Transportation Security Act (ATSA), Public Law 107-71 (115 Stat. 597, 613, Nov. 19, 2001, codified at 49 U.S.C. 114 note), as well as the DHS Appropriations Act, 2006, Public Law 109-90 (119 Stat. 2064, 2088-89, Oct. 18, 2005), which authorizes TSA to establish and collect a fee for any registered traveler program by publication of a notice in the Federal Register.

Under the TSA Pre✓® Application Program, individuals may submit biographic and biometric information directly to TSA, which in turn uses the information to conduct a security threat assessment (STA) of law enforcement, immigration, and intelligence databases, including a criminal history check. The results are used by TSA to decide if an individual poses a low risk to transportation or national security. Approved applicants are issued a Known Traveler Number (KTN) that may be used when making travel reservations. Airline passengers who submit their KTN when making airline reservations are eligible for expedited screening on flights originating from U.S. airports with TSA Pre✓® lanes.¹ TSA uses the traveler's KTN and other information during passenger pre-screening to verify that the individual traveling matches the information on TSA's list of known travellers and to confirm TSA Pre✓® expedited screening eligibility.

¹ Passengers who are eligible for expedited screening through a dedicated TSA Pre✓® lane typically will receive more limited physical screening, e.g., will be able to leave on their shoes, light outerwear, and belt, to keep their laptop in its case, and to keep their 3-1-1 compliant liquids/gels bag in a carry-on. For airports with TSA Pre✓® lanes, see http://www.tsa.gov/tsa-precheck/tsa-precheck-participating-airports.

TSA plans to expand enrollment options for the TSA Pre✓® Application Program by using additional contractor options or capabilities to market, enroll and pre-screen applicants. Approved contractors will provide secure enrollment options to collect biographic and biometric (e.g., fingerprints, iris scans, and/or photo) information, validate identity, collect citizenship/immigration information, and perform a criminal history records check to ensure that applicants do not have convictions for criminal offenses that would disqualify them from the TSA Pre✓® Application Program (please refer to the list of current disqualifiers available at www.tsa.gov/tsa-precheck/eligibility-requirements). These expansion options may include the use of commercial and other publicly available data to verify identity and citizenship/immigration status, and conduct a criminal check.

For enrolled and prescreened applicants, these additional contractors will transmit via a secure interface certain minimum required data elements (including, but not limited to, name, date of birth, gender, address, contact information, country of birth, images of identity documents, proof of citizenship/immigration status, and biometrics) to enable TSA to conduct a STA, make a final eligibility determination for the TSA Pre✓® Application Program, and for screening purposes, including to verify TSA Pre✓® enrolled and approved individuals when they are travelling.

Applicants who are found to be ineligible as a result of prescreening by a contractor shall be notified by the respective contractor of the reason. The notification will include, when relevant, information about the available correction of criminal or immigration records process and any alternatives available for identity verification, as well as other available channels for TSA Pre✓® expedited screening. Those who apply through TSA's existing program contractor will be notified of their eligibility for the program by TSA after completion of the STA.

The TSA-conducted STA for applicants forwarded by the contractors will include checks against government watchlists and databases associated with security and immigration. TSA will make the final determination on eligibility for the TSA Pre✓® Application Program and notify the applicant of the decision. Applicants generally should expect to receive notification from TSA within 2-3 weeks of the submission of their completed applications.

Eligibility for the TSA Pre✓® Application Program is within the sole discretion of TSA, which will notify applicants who are denied eligibility in writing of the reasons for the denial. If initially deemed ineligible by TSA, applicants will have an opportunity to correct cases of misidentification or inaccurate criminal or immigration records. If advised during the application eligibility review process that the criminal record discloses a disqualifying criminal offense, the applicant must submit in writing within a specified period of his or her intent to correct any information he or she believes to be inaccurate. The applicant must provide a certified revised record, or the appropriate court must forward a certified true copy of the information, prior to TSA approving eligibility of the applicant for the TSA Pre✓® Application Program. With respect to citizenship and/or immigration records, within 60 days after being advised that the citizenship or immigration records indicate that the applicant is ineligible for the TSA Pre✓® Application Program, the applicant must notify TSA in writing of his or her intent to correct any information believed to be inaccurate. TSA will review any information submitted and make a final decision. If neither notification nor a corrected record is received by TSA, the agency may make a final determination to deny eligibility. Individuals who TSA determines are ineligible for the TSA Pre✓® Application Program will be screened at airport security checkpoints pursuant to standard screening protocols.

TSA invites all TSA Pre✓® applicants to complete an optional survey to gather information on the applicants' overall customer satisfaction with the service received at the enrollment center. The optional survey is administered at the end of the in-person enrollment service. TSA will use the information to determine whether any trends exist regarding customer service at a particular enrollment center or particular application enrollment activity and to take steps to improve service. TSA will encourage the additional contractors to offer a similar customer satisfaction survey.

The TSA Pre✓® Application Program enhances aviation security by permitting TSA to better focus its limited security resources on passengers who are more likely to pose a threat to civil aviation, while also facilitating and improving the commercial aviation travel experience for the public. Travelers who choose not to enroll in this initiative are not subject to any limitations on their travel because of their choice; they will be processed through normal TSA screening before entering the sterile areas of airports. TSA also retains the authority to perform standard or other screening on a random basis on TSA Pre✓® Application Program participants and any other travelers authorized to receive expedited physical screening.

Average Annual Number of Respondents: An estimated 5,458,919 annualized respondents enrollments over a four year period.

Estimated Annual Burden Hours: An estimated 4,596,547 annualized hours based on a four-year projection. This estimate includes the time for pre-enrollment, all aspects of enrollment (including a voluntary customer satisfaction survey), and correction of records if needed.

Estimated Cost Burden: $143,500,886 annualized cost burden based on a four-year projection. The TSA fee per respondent for those who apply for the program directly with TSA will remain $85, which covers TSA's program costs and the FBI fee for the criminal history records check. The fee charged by contractor under the expansion of the program may differ, as it may include, but not be limited to, fees for other services that the companies provide separately to their customers and the option to utilize FBI for the criminal checks at a charge of $12.75 per applicant. TSA estimates contractors would remit approximately $25 to TSA for each prescreened applicant.

Dated: May 18, 2015.
Christina A.Walsh,
TSA Paperwork Reduction Act Officer, Office of Information Technology.

[FR Doc. 2015-12485 Filed 5-21-15; 8:45 am]

BILLING CODE 9110-05-P